ENVIRONMENTAL PROTECTION AGENCY

[10011-54-Region 5]

Proposed Prospective Purchaser Agreement for a Portion of the Delco Chassis Industrial Land I & II Site in Livonia, Michigan

AGENCY: Environmental Protection Agency (EPA).

ACTION: Notice; request for public comment.

SUMMARY: In accordance with the Prospective Purchaser Agreement, notice is hereby given of a proposed administrative settlement concerning a portion of the Delco Chassis Industrial Land I & II Site (Property) in Livonia, Michigan with the following Settling Party: Livonia West Commerce Center 2, LLC. The settlement requires the Settling Party to, if necessary, execute and record a Declaration of Restrictive Covenant; provide EPA access to the Property, exercise due care with respect to existing contamination on the Property, and not interfere with the on-going environmental work at the Property that is being conducted by the Revitalizing Auto Communities Environmental Response (RACER) Trust.

DATES: Comments must be submitted on or before August 17, 2020.

ADDRESSES: The proposed settlement is available for public inspection at the EPA, Region 5, Records Center, 77 W Jackson Blvd., 7th Fl., Chicago, Illinois 60604. A copy of the proposed settlement may be obtained from Peter Felitti, Assoc. Regional Counsel, EPA, Office of Regional Counsel, Region 5, 77 W Jackson Blvd., mail code: C-14J, Chicago, Illinois 60604. Comments should reference the Delco Chassis Industrial Land I & II Site in Livonia, Michigan and should be addressed to Peter Felitti, Assoc. Regional Counsel, EPA, Office of Regional Counsel, Region 5, 77 W Jackson Blvd., mail code: C-14J, Chicago, Illinois 60604.

FOR FURTHER INFORMATION CONTACT: Peter Felitti, Assoc. Regional Counsel, EPA, Office of Regional Counsel, Region 5, 77 W Jackson Blvd., C-14J, Chicago, Illinois 60604 or (312) 886-5114.

SUPPLEMENTARY INFORMATION: The settlement includes a covenant not to sue the Settling Party pursuant to the Sections 106 and 107(a) of the Comprehensive Environmental Response, Compensation, and Liability Act, or the Resource Conservation and Recovery Act, with respect to the Existing Contamination at the Property. Existing Contamination is defined as any hazardous substances, pollutants, contaminants or Waste material: (1) Present or existing on or under the Property as of the Effective Date of the Settlement Agreement; (2) that migrated from the Property prior to the Effective Date of the Settlement Agreement; and (3) presently at the Property that migrates onto, on, under, or from the Property after the Effective Date of the Settlement Agreement. For thirty (30) days following the date of publication of this notice, the Agency will receive written comments relating to the settlement. The Agency will consider all comments received and may modify or withdraw its consent to the settlement if comments received disclose facts or considerations which indicate that the settlement is inappropriate, improper, or inadequate. The Agency's response to any comments will be available for public inspection at the EPA, Region 5, Records Center, 77 W Jackson Blvd., 7th Fl., Chicago, Illinois 60604. Commenters may request an opportunity for a public hearing in the affected area, pursuant to Section 7003(d) of RCRA.

The Settling Party proposes to acquire ownership of a portion of the Delco Chassis Industrial Land I & II Site in Livonia, Michigan. The Site is one of the 89 sites that were placed into an Environmental Response Trust (the “Trust”) administrated by RACER as a result of the resolution of the 2009 GM bankruptcy.

Douglas Ballotti,
Director, Superfund & Emergency Management Division.

[FR Doc. 2020-15015 Filed 7-16-20; 8:45 am]

BILLING CODE 6560-50-P